DEPARTMENT OF HOMELAND SECURITY

Federal Emergency Management Agency

[Docket ID: FEMA-2009-0001]

Agency Information Collection Activities: Submission for OMB Review; Comment Request

AGENCY: Federal Emergency Management Agency, DHS.

ACTION: Notice; 30-day notice and request for comments; Reinstatement, with change, of a previously approved collection for which approval has expired; OMB No. 1660-0054; FEMA Form 080-2, AFG Application (General Questions and Narrative), FEMA Form 080-3, Activity Specific Questions for AFG Vehicle Applicants, FEMA Form 080-4, Activity Specific Questions for AFG Operations and Safety Applications, FEMA Form 080-5, Activity Specific Questions for Fire Prevention and Safety Applicants, FEMA Form 080-6, Fire Prevention and Safety Research and Development Application (Questions and Narrative), FEMA Form 080-7, Staffing for Adequate Fire and Emergency Response (General Questions for All Applicants), FEMA Form 080-8, Staffing for Adequate Fire and Emergency Response Hiring of Firefighters Application (Questions and Narrative), and FEMA Form 080-10, Staffing for Adequate Fire and Emergency Response Recruitment and Retention of Volunteer Firefighters Application (Questions and Narrative).

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and includes the actual data collection instruments FEMA will use.

DATES: Comments must be submitted on or before July 6, 2009.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-6974.

FOR FURTHER INFORMATION CONTACT: Requests for additional information or copies of the information collection should be made to Director, Records Management Division, 1800 South Bell Street, Arlington, VA 20598-3005, facsimile number (202) 646-3347, or e-mail address FEMA-Information-Collections@dhs.gov.

SUPPLEMENTARY INFORMATION:

Collection of Information

Title: Assistance to Firefighters Grant Applications.

Type of information collection: Reinstatement, with change, of a previously approved collection for which approval has expired.

OMB Number: 1660-0054.

Form Titles and Numbers: FEMA Form 080-2, AFG Application (General Questions and Narrative), FEMA Form 080-3, Activity Specific Questions for AFG Vehicle Applicants, FEMA Form 080-4, Activity Specific Questions for AFG Operations and Safety Applications, FEMA Form 080-5, Activity Specific Questions for Fire Prevention and Safety Applicants, FEMA Form 080-6, Fire Prevention and Safety Research and Development Application (Questions and Narrative), FEMA Form 080-7, Staffing for Adequate Fire and Emergency Response (General Questions for All Applicants), FEMA Form 080-8, Staffing for Adequate Fire and Emergency Response Hiring of Firefighters Application (Questions and Narrative), and FEMA Form 080-10, Staffing for Adequate Fire and Emergency Response Recruitment and Retention of Volunteer Firefighters Application (Questions and Narrative).

Abstract: Information sought under this submission will comprise the grant applications for AFG, FPS and SAFER. The information is necessary to assess the needs of the applicants as well as the benefits to be obtained from the use of funds.

Affected Public: Not-for-profit, State, Local and Tribal Government.

Estimated Number of Respondents: 51,500.

Frequency of Response: On occasion.

Estimated Average Hour Burden per Respondent: 4.38 hours.

Estimated Total Annual Burden Hours: 225,725 hours.

Estimated Cost: There is no annual reporting or recordkeeping cost associated with this collection.

Larry Gray,
Director, Records Management Division, Office of Management, Federal Emergency Management Agency, Department of Homeland Security.

[FR Doc. E9-12830 Filed 6-2-09; 8:45 am]

BILLING CODE 9110-64-P